ENVIRONMENTAL PROTECTION AGENCY

[ER-FRL-9008-4]

Environmental Impacts Statements; Notice of Availability

Responsible Agency: Office of Federal Activities, General Information (202) 564-7146 or http://www.epa.gov/compliance/nepa/.

Weekly Receipt of Environmental Impact Statements

Filed 03/18/2013 Through 03/22/2013

Pursuant to 40 CFR 1506.9.

Notice

Section 309(a) of the Clean Air Act requires that EPA make public its comments on EISs issued by other Federal agencies. EPA's comment letters on EISs are available at: http://www.epa.gov/compliance/nepa/eisdata.html

EIS No. 20130072, Final EIS, FHWA, AR, River Valley Intermodal Facilities, Review Period Ends: 05/13/2013, Contact: Randal Looney 501-324-6430.

EIS No. 20130073, Draft Supplement, NRC, WY Ross In-Situ Leach Recovery (ISR) Project, Supplement to the Generic Environmental Impact Statement for In-Situ Leach Uranium Milling Facilities, Comment Period Ends: 05/13/2013, Contact: Johari Moore 301-415-7694.

EIS No. 20130074, Draft Supplement, FHWA, USACE, WV, King Coal Highway Delbarton to Belo Project and Buffalo Mountain Surface Mine Clean Water Act Section 404 Permit Application, Comment Period Ends: 05/22/2013, Contact: Jason Workman (FHWA) 304-347-5928, Mark Taylor (USACE) 304-399-5610, Ben Hark (WVDOT) 304-558-2885.

The U.S. Department of Transportation's Federal Highway Administration and the U.S. Department of the Army's Corps of Engineers and the West Virginia Department of Transportation's Division of Highways are Joint-Lead Agencies for this project.

EIS No. 20130075, Draft Supplement, NMFS, AK, Effects of Oil and Gas Activities in the Arctic Ocean, Comment Period Ends: 05/28/2013, Contact: Candace Nachman 301-427-8401.

EIS No. 20130076, Draft EIS, USFS, AZ, Four-Forest Restoration Initiative Coconino and Kaibab National Forests, Comment Period Ends: 05/29/2013, Contact: Henry Provencio (928) 226-4684.

EIS No. 20130077, Draft EIS, NPS, TX, Lake Meredith National Recreation Area and Alibates Flint Quarries National Monument Draft General Management Plan, Comment Period Ends: 05/28/2013, Contact: Erin Flanagan 303-969-2327.

EIS No. 20130078, Final EIS, USFS, MT, Jack Rabbit to Big Sky Meadow Village 161 kV Transmission Line Upgrade, Review Period Ends: 04/29/2013, Contact: Amy Waring 406-255-1451.

EIS No. 20130079, Draft EIS, BLM, MT, Billings and Pompeys Pillar National Monument Resource Management Plan, Comment Period Ends: 06/27/2013, Contact: Carolyn Sherve-Bybee 406-896-5234.

Dated: March 26, 2013.
Aimee S. Hessert,
Deputy Director, NEPA Compliance Division, Office of Federal Activities.

[FR Doc. 2013-07373 Filed 3-28-13; 8:45 am]

BILLING CODE 6560-50-P